DEPARTMENT OF ENERGY

Federal Energy Regulatory Commission

[Docket No. RP00-298-002]

Kern River Gas Transmission Company; Notice of Proposed Pro Forma Changes in FERC Gas Tariff

June 27, 2000.

Take notice that on June 19, 2000, Kern River Gas Transmission Company (Kern River) has withdrawn certain dated tariff sheets initially filed in this proceeding and has replaced them with the following corresponding pro forma tariff sheets for inclusion in its FERC Gas Tariff, Second Revised Volume No. 1.

Pro Forma Sheet No. 15

Pro Forma Sheet No. 71

Pro Forma Sheet No. 171

Pro Forma Sheet No. 186

Pro Forma Sheet No. 423-426

Pro Forma Sheet No. 501

Pro Forma Sheet No. 601

Pro Forma Sheet No. 701

Pro Forma Sheet No. 901

Kern River states that the purpose of this filing is to withdraw the dated and numbered tariff sheets filed in this docket on May 24, 2000, and to replace them with corresponding pro forma sheets.

Kern River states that a copy of this filing has been served upon each person designated on the official service list compiled by the Secretary in this proceeding.

Any person desiring to protest this filing should file a protest with the Federal Energy Regulatory Commission, 888 First Street, NE, Washington, DC 20426, in accordance with Section 385.211 of the Commission's Rules and Regulation. All such protests must be filed as provided in Section 154.210 of the Commission's Regulations. Protests will be considered by the Commission in determining the appropriate action to be taken, but will not serve to make protestants parties to the proceedings. Copies of this filing are on file with the Commission and are available for public inspect in the Public Reference Room. This filing may be viewed on the web at http://www.ferc.fed.us/online/rims.htm (call 202-208-2222 for assistance).

David P. Boergers,
Secretary.

[FR Doc. 00-16699 Filed 6-30-00; 8:45 am]

BILLING CODE 6717-01-M